DEPARTMENT OF TRANSPORTATION

Federal Aviation Administration

14 CFR Part 45

[Docket No. FAA-2007-27173; Amendment No. 45-25]

RIN 2120-AJ02

Nationality and Registration Marks; Non Fixed-Wing Aircraft

AGENCY: Federal Aviation Administration (FAA), DOT.

ACTION: Direct final rule confirmation of effective date.

SUMMARY: This action confirms the direct final rule issued on September 14, 2007, which became effective on November 13, 2007. The rule changes certain display requirements for nationality and registration marks for powered parachutes and weight-shift-control aircraft. No comments were received on this direct final rule.

DATES: The direct final rule published at 72 FR 52467 is confirmed effective November 13, 2007.

ADDRESSES: The complete docket for the direct final rule on nationality and registration marks; non fixed-wing aircraft, Docket ID FAA-2007-27173 may be examined at http://www.regulations.gov at any time or go to Docket Operations in Room W12-140 of the West Building, Ground Floor, at 1200 New Jersey Avenue, SE., Washington, DC, between 9 a.m. and 5 p.m., Monday through Friday, except Federal holidays.

FOR FURTHER INFORMATION CONTACT: Grant Schneemann, AIR-230, Airworthiness Branch, Production and Airworthiness Division, Aircraft Certification Service, Federal Aviation Administration, 800 Independence Avenue, SW., Washington, DC 20591; telephone (202) 267-8473.

SUPPLEMENTARY INFORMATION:

Background

On September 14, 2007, the FAA published a direct final rule (72 FR 52467) that permits operators of U.S. registered powered parachutes and weight-shift-control aircraft to display their nationality and registration marks in other than a horizontal orientation on the fuselage, a structural member, or a component of the aircraft. The direct final rule also clarifies the size requirements for nationality and registration marks on U.S. registered powered parachutes and weight-shift-control aircraft.

Discussion of Comments

The FAA received no comments on the nationality and registration marks; non fixed-wing aircraft direct final rule.

Conclusion

In consideration that no comments were submitted in response to the direct final rule, the FAA has determined that no further rulemaking action is necessary. Amendment 45-25 remains in effect as adopted.

Issued in Washington, DC, on November 20, 2007.
John Hickey,
Director, Aircraft Certification Services.

[FR Doc. E7-23028 Filed 11-26-07; 8:45 am]

BILLING CODE 4910-13-P